DEPARTMENT OF EDUCATION

Striving Readers

Catalog of Federal Domestic Assistance (CFDA) Number: 84.371A.

AGENCY: Office of Elementary and Secondary Education, Department of Education.

ACTION: Notice of proposed priorities, requirements, definitions, and selection criteria.

SUMMARY: The Assistant Secretary for Elementary and Secondary Education proposes priorities, requirements, definitions, and selection criteria for the Striving Readers program grant competition. The Assistant Secretary may use these priorities, requirements, definitions, and selection criteria for competitions in fiscal year (FY) 2009 and later years. The Assistant Secretary intends to use the priorities, requirements, definitions, and selection criteria to provide Federal financial assistance to support the implementation and evaluation of intensive, supplemental literacy interventions for struggling readers.

DATES: We must receive your comments on or before May 8, 2009.

ADDRESSES: Address all comments about this notice to Marcia J. Kingman, U.S. Department of Education, 400 Maryland Avenue, SW., room 3E106, Washington, DC 20202-6400.

If you prefer to send your comments by e-mail, use the following address: Marcia.Kingman@ed.gov. You must include the term “Striving Readers—Comments on FY 2009 Proposed Priorities” in the subject line of your electronic message.

If you use a telecommunications device for the deaf (TDD), call the Federal Relay Service (FRS), toll free, at 1-800-877-8339.

FOR FURTHER INFORMATION CONTACT: Marcia J. Kingman. Telephone: (202) 401-0003 or by e-mail: Marcia.Kingman@ed.gov.

SUPPLEMENTARY INFORMATION: Invitation to Comment: We invite you to submit comments regarding this notice. To ensure that your comments have maximum effect in developing the notice of final priorities, requirements, definitions, and selection criteria, we urge you to identify clearly the specific proposed priority, requirement, definition, or selection criterion your comment addresses.

We invite you to assist us in complying with the specific requirements of Executive Order 12866 and its overall requirement of reducing regulatory burden that might result from the proposed priorities, requirements, definitions, and selection criteria. Please let us know of any further opportunities we should take to reduce potential costs or increase potential benefits while preserving the effective and efficient administration of the program.

During and after the comment period, you may inspect all public comments about the proposed priorities, requirements, definitions, and selection criteria in room 3E106, 400 Maryland Avenue, SW., Washington, DC, between the hours of 8:30 a.m. and 4 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of this program is to raise the reading levels of adolescent students in ESEA Title I-eligible schools with significant numbers of students reading below grade level and to build a strong, scientific research base for identifying and replicating strategies that improve adolescent literacy instruction. The program supports expanding existing adolescent literacy initiatives or creating new initiatives that provide intensive, supplemental literacy interventions for struggling readers.

Program Authority: 20 U.S.C. 6492.

Applicable Program Regulations: The Education Department General Administrative Regulations (EDGAR) in 34 CFR parts 75, 77, 79, 80, 81, 82, 84, 85, 86, 97, 98, and 99, as applicable.

Proposed Priorities: This notice contains two proposed priorities.

Proposed Priority 1—Supplemental Literacy Intervention for Struggling Readers in the Middle Grades:

Background:

One of the greatest obstacles to achieving President Obama's ambitious goal of regaining our Nation's global leadership in educational attainment is the inadequate literacy skills that too many young people bring with them as they enter high school. Without strong literacy skills, high school students cannot master the rigorous academic content they need to prepare for postsecondary education, careers, and active participation in our democracy. Students in the middle grades and in high school who have low-level reading skills also are at greater risk of dropping out of school.

The Striving Readers program awards competitive grants to support the implementation and rigorous evaluation of promising adolescent literacy interventions intended to increase our understanding of how we can improve the literacy skills of adolescents most effectively. The Department awarded more than $24 million for the first eight grants under the program in March, 2006 and has supported continuation of those grants with an additional $88.6 million in subsequent years. These projects are now entering their third year and are serving more than 45,000 secondary school students annually, including 7,300 adolescents who read two or more years below grade level. The Department released year-one implementation studies last year, and expects to release impact evaluations of the first two years of project implementation this summer.

Focus on Supplemental Literacy Intervention for Struggling Readers:

Each of the Striving Readers projects funded in FY 2006 supports both an intensive supplemental literacy intervention for struggling readers (students who read two or more years below grade level) and a schoolwide literacy initiative that includes literacy instruction in all content-area classes and is intended to improve the literacy skills of all students. In Proposed Priority 1, we are proposing to support projects that focus exclusively on the implementation of a supplemental literacy intervention for struggling readers. While teaching literacy in every content-area class is necessary if all students are to acquire high-level literacy skills—the complex set of skills that enables one to read critically, comprehend, reason, and write persuasively—students with reading difficulties need support in addition to the support they receive in content-area classes. Struggling readers, through intense interventions that occur in a supplemental class, must have a real opportunity to catch up with their peers, graduate from high school, and secure a place in college and the workplace after graduation. Given limited available resources for this program, we believe that the primary focus of this priority should be the urgent needs of these adolescents.

Under Proposed Priority 1, we also are proposing that projects address the needs of struggling readers by implementing a school-year-long literacy intervention that supplements the regular English language arts instruction students receive and that delivers instruction exclusively or principally during the school day. Research indicates that an intensive, supplemental intervention of this kind is more likely to accelerate the development of grade-level literacy skills by struggling readers than are other strategies or approaches. Improving Adolescent Literacy: Effective Classroom and Intervention Practices, a practice guide published in 2008 by the Institute of Education Sciences' What Works Clearinghouse, found strong research evidence that students who have only partial mastery of the prerequisite knowledge and skills that are fundamental for reading at grade level need more intensive help than can be provided by teachers during English language arts or other classes (Institute of Education Sciences, 2008).

Proposed Priority 1 would also require that this supplemental literacy intervention be research-based and include, at a minimum, a number of practices that many researchers in the field of adolescent literacy agree are critical to the effectiveness of a supplemental literacy intervention for struggling readers. These practices include the use of a reliable screening assessment to identify students with reading difficulties, a reliable diagnostic reading assessment to pinpoint students' instructional needs, explicit vocabulary instruction, direct and explicit comprehension strategy instruction, and content intended to improve student motivation and engagement in literacy learning (Institute of Education Sciences, 2008; Boardman, Roberts, Vaughn et al., 2008; Biancarosa and Snow, 2006).

To meet Proposed Priority 1, the supplemental literacy intervention also must have been implemented in at least one school in the United States within the past five years. The purpose of this requirement is to ensure that the limited funds available for new awards are used to support interventions that are fully developed and that can be implemented by the schools included in the project without significant modification. While there is a need for greater investment in the development of new literacy interventions, at this time, the Department seeks to focus on replicating successful supplemental literary interventions in multiple schools.

Focus on Students in the Middle Grades:

Proposed Priority 1 would also focus on projects that serve struggling readers in any of grades 6 through 8 because research indicates that early and intense intervention in the middle grades is critical to putting students with below-grade-level literacy skills on a path to graduation when they enter high school (Balfanz, Herzog, and Mac Iver, 2007).

The number of adolescents in the middle grades who need assistance with reading is alarming. Twenty-seven percent of eighth-grade students in the United States scored below basic in reading on the most recent National Assessment of Educational Progress (NAEP). Forty-two percent of eighth-grade students eligible for free- or reduced-price lunch scored below basic (National Center for Education Statistics, 2007). According to one estimate, approximately half of the students who enter a typical high-poverty, urban high school read at a sixth- or seventh-grade level (Balfanz et al., 2002).

When students enter high school with reading skills that are significantly below grade level, they are at great risk of dropping out, particularly during the ninth-grade year. One analysis of the school experiences and outcomes of students who were members of the Class of 2000 in Philadelphia found that more than three-quarters of the students who dropped out in ninth grade entered high school with reading skills that were one or more years below grade level. Fifty-eight percent of these ninth-grade dropouts entered the ninth grade with reading skills that were three or more years below grade level (Neild and Balfanz, 2006). Similarly, an analysis of longitudinal student data for three large California districts found that more than sixty percent of students who scored “far below basic” on an eighth-grade reading assessment dropped out before graduation (Kurlaender, Reardon, and Jackson, 2008).

Proposed Priority 1—Supplemental Literacy Intervention for Struggling Readers in the Middle Grades:

To be eligible for consideration under this priority, an applicant must propose to implement a supplemental literacy intervention during the second, third, and fourth years of the project period that—

(a) Will be provided to struggling readers (as defined elsewhere in this notice) in any of grades 6 through 8 in no fewer than 5 eligible schools;

(b) Supplements the regular English language arts instruction students receive;

(c) Provides instruction exclusively or primarily during the regular school day, but that may be augmented by after-school instruction;

(d) Is at least one full school year in duration;

(e) Includes the use of a nationally normed, reliable, and valid screening reading assessment (as defined elsewhere in this notice) to identify struggling readers;

(f) Includes the use of a nationally normed, reliable, and valid diagnostic reading assessment (as defined elsewhere in this notice) to pinpoint students' instructional needs;

(g) Uses a research-based literacy model that is flexible enough to meet the varied needs of struggling readers, is intense enough to accelerate the development of literacy skills, and includes, at a minimum, the following practices:

(1) Explicit vocabulary instruction.

(2) Direct and explicit comprehension strategy instruction.

(3) Opportunities for extended discussion of text meaning and interpretation.

(4) Instruction in reading foundational skills, such as decoding and fluency (for students who need to be taught these skills).

(5) Course content intended to improve student motivation and engagement in literacy learning.

(6) Instruction in writing; and

(h) Has been implemented in at least one school in the United States during the preceding five years.

Proposed Priority 2—Rigorous and Independent Evaluation:

Background:

Under section 1502(b) of the Elementary and Secondary Education Act of 1965 (ESEA), the Secretary is required to evaluate Striving Readers projects “using rigorous methodological designs and techniques, including control groups and random assignment, to the extent feasible, to produce reliable evidence of effectiveness.” Consequently, we are proposing a priority for applications that includes an evaluation plan that measures, through a randomized field trial, the effectiveness of the proposed supplemental literacy intervention in achieving desired outcomes.

The statutory evaluation requirement coincides with the needs of the adolescent literacy field for better information about what works. School systems across the country are beginning to develop comprehensive literacy programs that extend elementary literacy instruction into middle and high schools, but there is little empirical data to support some of these secondary-level programs. And, although the marketplace is producing a wealth of “off-the-shelf” interventions for students with reading deficiencies, most of these interventions have not been subjected to rigorous evaluations.

The critical need for a stronger research base on adolescent literacy necessitates that funded projects conduct careful, rigorous studies of the supplemental literacy interventions that will be implemented. Therefore, we have designed Proposed Priority 1 to be used in conjunction with Proposed Priority 2. Each project funded under Proposed Priority 1—Supplemental Literacy Intervention for Struggling Readers in the Middle Grades would be required to contract with an independent evaluator to conduct an experimental design evaluation and provide information and data for dissemination to the literacy community. The evaluation for each project must include at least 750 struggling readers, the minimum sample required to detect approximately 3-5 months of growth in reading achievement on standardized assessments for the typical student in grades 6 through 8. In addition, each project would be required to include at least 5 eligible schools. These schools may be part of a single local educational agency (LEA) or multiple LEAs. The Department plans to provide technical assistance to help grantees and their evaluation partners with evaluation design and implementation.

Proposed Priority 2—Rigorous and Independent Evaluation:

To be eligible for consideration under this priority, an applicant must propose to support a rigorous experimental evaluation of the effectiveness of the supplemental literacy intervention it implements under Priority 1 (Supplemental Literacy Intervention for Struggling Readers in the Middle Grades) during the second, third, and fourth years of the project that will—

(a) Be carried out by an independent evaluator whose role in the project is limited solely to conducting the evaluation;

(b) Use a random lottery to assign eligible struggling readers in each school in the project either to the supplemental literacy intervention or to other activities in which they would otherwise participate, such as a study hall, electives, or another activity that does not involve supplemental literacy instruction;

(c) Include rigorous and appropriate procedures to monitor the integrity of the random assignment of students, minimize crossover and contamination between the treatment and control groups, and monitor, document, and, where possible, minimize student attrition from the sample;

(d) Measure outcomes of the supplemental literacy intervention using, at a minimum:

(1) The reading/language arts assessment used by the State to determine whether a school has made adequate yearly progress under part A of title I of the ESEA.

(2) A nationally normed, reliable, and valid outcome reading assessment (as defined elsewhere in this notice) that is closely aligned with the literacy skills targeted by the supplemental literacy intervention;

(e) Use rigorous statistical models to analyze the impact of the supplemental literacy intervention on student achievement, including the use of students' prior-year test scores as a covariate in the model to improve statistical precision and also including appropriate statistical techniques for taking into account the clustering of students within schools;

(f) Include an analysis of the fidelity of implementation of the critical features of the supplemental literacy intervention based on data collected by the evaluator;

(g) Include measures designed to ensure that the evaluator obtains high response rates to all data collections;

(h) Include no fewer than 750 struggling readers enrolled in no fewer than 5 schools in each year of the evaluation; and

(i) Be designed to detect not less than a 0.10 standard deviation impact of the supplemental literacy intervention on student achievement, which represents approximately 3 to 5 months' growth in reading achievement on standardized assessments for the typical student in grades 6 through 8.

Types of Priorities:

When inviting applications for a competition using one or more priorities, we designate the type of each priority as absolute, competitive preference, or invitational through a notice in the Federal Register. The effect of each type of priority follows:

Absolute Priority: Under an absolute priority, we consider only applications that meet the priority (34 CFR 75.105(c)(3)).

Competitive Preference Priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational Priority: Under an invitational priority, we are particularly interested in applications that meet the priority. However, we do not give an application that meets the priority a preference over other applications (34 CFR 75.105(c)(1)).

Proposed Requirements:

The Assistant Secretary for Elementary and Secondary Education proposes the following requirements for this program. We may apply these requirements in any year in which this program is in effect.

Proposed Eligibility Requirement:

Background:

Several State educational agencies have recently published comprehensive literacy plans that go beyond the traditional State focus on reading instruction in the early grades. These plans create policies and guidelines for extending literacy instruction into middle and high schools. In general, the new State plans acknowledge that improvements in adolescent literacy are the cornerstone for secondary-school reform and that those improvements must be accomplished through the teaching of literacy skills in all content-areas as well as through the provision of targeted, supplemental literacy interventions to struggling readers. To accomplish the mission embodied in those State plans, States are working with schools and districts to modify State literacy standards and assessments; to identify research-based literacy programs; to create cohorts of literacy coaches; to revise teacher preparation and training so that it includes education in content-based literacy strategies; to develop literacy professional development for in-service teachers; and to help improve the infrastructure of schools in order to better support literacy instruction.

Recent American Recovery and Reinvestment Act of 2009 (ARRA) funds appropriated for Title I School Improvement Grants and for the State Fiscal Stabilization Fund are available as financial support for executing many of the components of State comprehensive literacy plans as well as for creating comprehensive plans in States that are just beginning to address adolescent literacy needs. We are proposing that within the larger effort of building State-wide programs that will improve literacy for all adolescents, the limited funds available through the Striving Readers program be used by States to target services to struggling readers.

By proposing to limit eligibility to State educational agencies, we intend to partner with States, not only through the ARRA but also through these grants, to help States address the needs of struggling readers.

Proposed Eligible Applicants: To be considered for an award under this competition, an applicant must be a State educational agency (SEA) that applies on behalf of itself and one or more LEAs that have governing authority over the eligible schools (as defined elsewhere in this notice) that the applicant proposes to include in the project.

Proposed Application Requirements:

Eligible Schools:

Background:

We are proposing that the applicant SEA submit, for each eligible school it intends to include in the project, certain eligibility information to ensure that reviewers can adequately judge the extent of the school's willingness to participate fully in the evaluation and implementation of the supplemental literacy intervention. As a part of this application requirement, we also would require each applicant to submit, for each eligible school it intends to include in its project, State assessment data to verify that a large enough group of struggling readers exists among enrolled students to ensure an adequate sample size for the evaluation.

Eligible schools: To be considered for an award under this competition, an eligible applicant must include in its application the following with respect to each school it proposes to include in the project:

(a) The school's name, location, and enrollment disaggregated by grade level for the 2008-09 school year.

(b) State or other assessment data that demonstrate that, during each of the 2007-08 and 2008-09 school years, a minimum of 75 students enrolled in grades 6 through 8 in the school were struggling readers (as defined elsewhere in this notice).

(c) Evidence that the school is eligible to receive funds under part A of title I of the ESEA, pursuant to section 1113 of the ESEA.

(d) A letter from the superintendent of the LEA that has governing authority over the school and the principal of the school in which they—

(1) Agree to implement the proposed supplemental literacy intervention during the 2010-11, 2011-12, and 2012-13 school years, adhering strictly to the design of the intervention;

(2) Agree to allow eligible struggling readers to be randomly assigned (by lottery) to either the supplemental literacy intervention curriculum or to other activities in which they would otherwise participate, such as a study hall, electives, or other activity that does not involve supplemental reading instruction; and

(3) Agree to participate in the evaluation, including in the evaluator's collection of data on student outcomes and program implementation.

Proposed Logic Model and Assessment Requirements:

Background:

We are proposing to require applicants to include, in their applications, a logic model of the supplemental literacy intervention that will allow reviewers to evaluate the merits of the intervention and the relation between the intervention and student outcomes. We are also proposing that applicants identify in their applications the nationally normed, reliable, and valid screening, diagnostic, and outcome reading assessments that they will use as they implement and evaluate the effects of the supplemental literacy intervention.

Supplemental literacy intervention Logic Model and Assessment Requirements: To be considered for an award under this competition, an applicant must include in its application the following evidence with respect to the supplemental literacy intervention it proposes to implement and evaluate:

(a) Evidence that the supplemental literacy intervention has been implemented in at least one school in the United States during the preceding five years.

(b) A one-page logic model that shows a clear, logical pathway leading from the project inputs and activities, through classroom instruction, to the expected impacts on students.

(c) The nationally normed, reliable, and valid screening, diagnostic, and outcome reading assessments (as these reading assessments are defined elsewhere in this notice) of student literacy skills that the applicant would use to inform the identification of struggling readers and the content of their instruction.

Proposed Definitions:

Background:

The Assistant Secretary for Elementary and Secondary Education proposes several definitions that will help clarify the population of students eligible for services under this competition and the tools to be used to identify those eligible students. We may apply one or more of these definitions in any year in which this program is in effect.

Diagnostic reading assessment means an assessment that is—

(a) Valid, reliable, and based on scientifically based reading research; and

(b) Used for the purpose of—

(1) Identifying a child's specific areas of strength and weakness;

(2) Determining any difficulties that a child may have in learning to read and the potential cause of such difficulties; and

(3) Helping to determine possible reading intervention strategies and related special needs.

Eligible school means a school that—

(a) Is eligible to receive funds under part A of title I of the ESEA, pursuant to section 1113 of the ESEA;

(b) Serves students in any of grades 6 through 8; and

(c) Enrolled not fewer than 75 students in any of grades 6 through 8 during the 2007-08 and 2008-09 school years whose reading skills were two or more years below grade level.

Outcome reading assessment means an assessment that is—

(a) Valid, reliable, and nationally normed;

(b) Closely aligned with the literacy skills targeted by the supplemental literacy intervention; and

(c) Used for the purpose of—

(1) Measuring student reading achievement; and

(2) Evaluating the effectiveness of the supplemental literacy intervention.

Screening reading assessment means an assessment that is—

(a) Valid, reliable, and based on scientifically based reading research; and

(b) A brief procedure designed as a first step in identifying children who may be at high risk for delayed development or academic failure and in need of further diagnosis of their need for special services or additional literacy instruction.

Struggling readers means readers who—

(a) Have only partial mastery of the prerequisite knowledge and skills that are fundamental for reading at grade level;

(b) Are reading two or more grades below grade level when measured on an initial screening reading assessment.

Proposed Selection Criteria:

Background:

The purposes of the Striving Readers grant program are to improve the literacy skills of adolescent struggling readers and to help build a strong, scientific, research base for specific strategies that improve adolescent literacy skills. To support those purposes, we are proposing the following selection criteria that we believe will allow us to fund the most promising supplemental literacy interventions for struggling readers and that will ensure that the evaluations of those interventions meet the research community's highest standard and provide reliable findings that inform adolescent literacy practice.

Proposed Selection Criteria:

The Assistant Secretary for Elementary and Secondary Education proposes the following selection criteria for evaluating an application under this program. We may apply one or more of these criteria in any year in which this program is in effect. In the notice inviting applications or the application package or both we will announce the maximum possible points assigned to each criterion.

(a) Significance.

(1) The potential contribution of the project to the development and advancement of theory, research, and practices in the field of adolescent literacy, including—

(i) In the case of a supplemental literacy intervention that has not been evaluated through a large-scale experimental evaluation, the extent to which other empirical evidence (such as smaller-scale experimental or quasi-experimental studies of the effects of the intervention on student achievement) demonstrates that the intervention is likely to be effective in improving the reading skills of struggling readers; or

(ii) In the case of a supplemental literacy intervention that has been evaluated by one or more large-scale experimental evaluations, the extent to which those evaluations provide evidence that demonstrates that the intervention is likely to be effective in improving the reading skills of struggling readers and that the proposed evaluation would increase substantially knowledge in the field of adolescent literacy, such as by studying the effectiveness of the intervention among a different population than studied in previous experimental evaluations or by using an improved evaluation design (such as one that has a marked increase in statistical power);

(2) The extent to which the proposed supplemental literacy intervention can be replicated in a variety of settings without significant modifications.

(b) Project Design.

(1) The extent to which the supplemental literacy intervention uses a research-based literacy model that is flexible enough to meet the varied needs of struggling readers, is intense enough to accelerate the development of literacy skills, and that includes, at a minimum, the following practices:

(i) Explicit vocabulary instruction;

(ii) Direct and explicit comprehension strategy instruction;

(iii) Opportunities for extended discussion of text meaning and interpretation;

(iv) Instruction in reading foundational skills, such as decoding and fluency (for students who need to be taught these skills);

(v) Course content designed to improve student motivation and engagement in literacy learning; and

(vi) Instruction in writing.

(2) The extent to which the professional development model proposed for the project has sufficient intensity (in terms of the number of hours or days).

(3) The extent to which the provider of the professional development identified in the application has the appropriate experience and knowledge to provide high-quality professional development.

(4) The extent to which the proposed project uses nationally normed, valid, and reliable screening reading assessments for screening struggling readers and for diagnosing individual student needs.

(c) Project Evaluation.

(1) The extent to which the evaluation plan includes data from the reading/English language arts assessment used by the State to measure adequate yearly progress under part A of title I of the ESEA and from a second, evaluator-administered, nationally normed, reliable, and valid measure of student reading achievement that is closely aligned with the goals of the intervention;

(2) The extent to which the evaluation plan describes an objective and appropriate method for the independent evaluator to conduct random assignment of students to treatment and control conditions; rigorous and appropriate methods for monitoring the integrity of random assignment and for minimizing crossover and contamination between the treatment and control groups; and rigorous and appropriate methods for monitoring, documenting, and, where possible, minimizing, student attrition from the sample;

(3) The extent to which the evaluation plan includes a clear, well-documented, and rigorous method for measuring the fidelity of implementation of the critical features of the intervention;

(4) The extent to which the evaluation plan describes rigorous statistical procedures for the analysis of the data that will be collected, including:

(i) A clear discussion of the relationship between hypotheses, measures, and independent and dependent variables.

(ii) Appropriate statistical techniques for taking into account the clustering of students within schools.

(iii) The use of data on students' achievement in prior years as a covariate to improve statistical precision.

(iv) In the case of qualitative data analyses, the use of appropriate and rigorous methods to index, summarize, and interpret data;

(5) The extent to which the independent evaluator identified in the application has experience in conducting scientifically based reading research and in designing and conducting experimental evaluations; and

(6) The extent to which the proposed budget allocates sufficient funds to carry out a high-quality evaluation of the proposed project.

Final priorities, requirements, definitions, and selection criteria:

We will announce the final priorities, requirements, definitions, and selection criteria in a notice in the Federal Register. We will determine the final priorities, requirements, definitions, and selection criteria after considering responses to this notice and other information available to the Department. This notice does not preclude us from proposing additional priorities, requirements, definitions, or selection criteria, subject to meeting applicable rulemaking requirements.

Note: This notice does not solicit applications. In any year in which we choose to use one or more of these priorities, requirements, definitions, and selection criteria, we invite applications through a notice in the Federal Register.

Executive Order 12866: This notice has been reviewed in accordance with Executive Order 12866. Under the terms of the order, we have assessed the potential costs and benefits of this proposed regulatory action.

The potential costs associated with this proposed regulatory action are those resulting from statutory requirements and those we have determined as necessary for administering this program effectively and efficiently.

In assessing the potential costs and benefits—both quantitative and qualitative—of this proposed regulatory action, we have determined that the benefits of the proposed priorities, requirements, definitions, and selection criteria justify the costs.

We have determined, also, that this proposed regulatory action does not unduly interfere with State, local, and tribal governments in the exercise of their governmental functions.

Intergovernmental Review: This program is subject to Executive Order 12372 and the regulations in 34 CFR part 79. One of the objectives of the Executive order is to foster an intergovernmental partnership and a strengthened Federalism. The Executive order relies on processes developed by State and local governments for coordination and review of proposed Federal financial assistance.

This document provides early notification of our specific plans and actions for this program.

Accessible Format: Individuals with disabilities can obtain this document in an accessible format (e.g., braille, large print, audiotape, or computer diskette) on request to the program contact person listed under FOR FURTHER INFORMATION CONTACT.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Delegation of Authority: The Secretary of Education has delegated authority to Joseph C. Conaty, Director, Academic Improvement and Teacher Quality Programs for the Office of Elementary and Secondary Education, to perform the functions of the Assistant Secretary for Elementary and Secondary Education.

Dated: April 3, 2009.
Joseph C. Conaty,
Director, Academic Improvement and Teacher Quality Programs.

[FR Doc. E9-7995 Filed 4-7-09; 8:45 am]

BILLING CODE 4000-01-P